DEPARTMENT OF THE INTERIOR

Fish and Wildlife Service

[FWS-R4-ES-2015-N086; 40120-1112-0000-F2]

Receipt of Applications for Endangered Species Permits

AGENCY: Fish and Wildlife Service, Interior.

ACTION: Notice.

SUMMARY: We, the U.S. Fish and Wildlife Service, invite the public to comment on the following applications to conduct certain activities with endangered species. With some exceptions, the Endangered Species Act (ESA) prohibits activities with listed species unless a Federal permit is issued that allows such activities. The ESA requires that we invite public comment before issuing these permits.

DATES: We must receive written data or comments on the applications at the address given below by December 28, 2015.

ADDRESSES: Documents and other information submitted with the applications are available for review, subject to the requirements of the Privacy Act and Freedom of Information Act, by any party who submits a written request for a copy of such documents to the following office within 30 days of the date of publication of this notice: U.S. Fish and Wildlife Service, 1875 Century Boulevard, Suite 200, Atlanta, GA 30345 (Attn: James Gruhala, Permit Coordinator).

FOR FURTHER INFORMATION CONTACT: James Gruhala, 10(a)(1)(A) Permit Coordinator, telephone 404-679-7097; facsimile 404-679-7081.

SUPPLEMENTARY INFORMATION: The public is invited to comment on the following applications for permits to conduct certain activities with endangered and threatened species under section 10(a)(1)(A) of the Endangered Species Act of 1973, as amended (16 U.S.C. 1531 et seq.), and our regulations in the Code of Federal Regulations (CFR) at 50 CFR 17. This notice is provided under section 10(c) of the Act.

If you wish to comment, you may submit comments by any one of the following methods. You may mail comments to the Fish and Wildlife Service's Regional Office (see ADDRESSES section) or send them via electronic mail (email) to permitsR4ES@fws.gov. Please include your name and return address in your email message. If you do not receive a confirmation from the Fish and Wildlife Service that we have received your email message, contact us directly at the telephone number listed above (see FOR FURTHER INFORMATION CONTACT). Finally, you may hand-deliver comments to the Fish and Wildlife Service office listed above (see ADDRESSES).

Before including your address, telephone number, email address, or other personal identifying information in your comments, you should be aware that your entire comment—including your personal identifying information—may be made publicly available at any time. While you can ask us in your comments to withhold your personal identifying information from public review, we cannot guarantee that we will be able to do so.

Permit Applications

Permit Application Number: TE 68616B-0

Applicant: Carla Atkinson, University of Alabama, Tuscaloosa, Alabama

The applicant requests a permit to take (capture, handle, mark, and release) 32 species of endangered and threatened mussels and the Tulotoma snail (Tulotoma magnifica) for qualitative and quantitative surveys and collect tissue samples and sacrifice 21 individual Southern clubshells (Pleurobema decisum) for studies on excretion, filtration, and respiration and genetic analyses in Alabama, Georgia, and Tennessee.

Permit Application Number: TE 78650-B

Applicant: Cassie Schmidt, Fayetteville, Arkansas

The applicant requests a permit to take (capture, handle, release) the federally endangered American burying beetle (Nicrophorus americanus) for the purpose of conducting presence/absence surveys in the states of Arkansas, Kansas, Missouri, and Oklahoma.

Permit Application Number: TE045109-4

Applicant: Kenneth Jack Kilgore, US Army ERDC WES, Vicksburg, Mississippi

The applicant requests renewal and amendment of the permit to continue previously permitted take (capture, release and salvage shells) fat pocketbook (Potamilus capax), rabbitsfoot (Quadrula c. cylindrica), sheepnose (Plethobasus cyphyus), orangefoot pimpleback (Plethobasus cooperianus), and pink mucket (Lampsilis abrupta) in Illinois and Kentucky for presence/absence surveys; continue previously permitted take (capture, tag, tissue sample, insert internal and external radio transmitters) pallid sturgeon (Scaphirhynchus albus) in Louisiana, Mississippi, Arkansas, Tennessee, Kentucky, Missouri and Illinois for surveys, population monitoring, and research purposes; take (capture, release and salvage shells) Alabama heelsplitter (Potamilus inflatus), spectaclecase (Cumberlandia monodonta), take (lethal take and mantle clips for metal bioaccumulation and genetic analyses) spectaclecase, and take (retain for captive propagation) orangefoot pimpleback in Arkansas, Indiana, Louisiana, Mississippi, Missouri, Ohio, Tennessee, and West Virginia; and take (capture, tag, tissue sample, insert internal and external radio transmitters) Gulf sturgeon (Acipenser oxyrinchus desotoi) in Alabama, Florida, Louisiana, and Mississippi for surveys, population monitoring, and research purposes.

Permit Application Number: TE 237535-2

Applicant: Bok Tower Gardens, Lake Wales, Florida

The applicant requests an amendment to their current permit to add authorization to remove and reduce to possession (collect) seeds of Carter's mustard (Warea carteri) from Lake Wales Ridge National Wildlife Refuge, Florida, for germplasm storage, seed germination, and seed storage research purposes.

Permit Application Number: TE 81500B-0

Applicant: Sara Samoray, BDY Environmental, LLC, Nashville, TN

The applicant requests a permit to take (enter hibernacula or maternity roost caves; capture with mist-nets, harp traps, or by hand; collect biometric data, tissue, and/or hair; band; and radio-tag) Virginia big-eared bat (Corynorhinus townsendii virginianus), gray bat (Myotis grisescens), Indiana bat (Myotis sodalis), and northern long-eared bat (Myotis septentrionalis) for presence/absence surveys, population monitoring, and research purposes throughout these species' ranges.

Permit Application Number: TE 81492B-0

Applicant: Dylan Brooks, Sylva, NC

The applicant requests a permit to take (enter hibernacula; salvage; capture with mist-nets or harp traps; handle; measure; identify; collect hair and fecal samples; apply fungal lift tape; swab; wing-punch; band; radio-tag; and light-tag Indiana bat (Myotis sodalis), and northern long-eared bat (Myotis septentrionalis) for presence/absence surveys, studies to document habitat use, population monitoring, and other research purposes throughout these species' ranges.

Permit Application Number: TE 81353B-0

Applicant: Stephanie Penk, Perth, Sylva, NC

The applicant requests a permit to take (enter hibernacula; salvage; capture with mist-nets or harp traps; handle; measure; identify; collect hair and fecal samples; apply fungal lift tape; swab; wing-punch; band; radio-tag; and light-tag Indiana bat (Myotis sodalis), and northern long-eared bat (Myotis septentrionalis) for presence/absence surveys, studies to document habitat use, population monitoring, and other research purposes throughout these species' ranges.

Permit Application Number: TE 81430B-0

Applicant: Heather Wallace, Mulkey Engineers and Consultants, Cary, NC

The applicant requests a permit to take (enter hibernacula or maternity roost caves; capture with mist-nets and harp traps; collect fur, fecal, and tissue samples; swab; band; and radio-tag) Virginia big-eared bat (Corynorhinus townsendii virginianus), gray bat (Myotis grisescens), Indiana bat (Myotis sodalis), and northern long-eared bat (Myotis septentrionalis) for presence/absence surveys, population monitoring, and research purposes in Alabama, Arkansas, Florida, Georgia, Kentucky, Louisiana, Mississippi, North Carolina, South Carolina, and Tennessee.

Permit Application Number: TE 34778A-1

Applicant: U.S. Geological Survey, Virginia Cooperative Fish and Wildlife Research Unit, Blacksburg, VA

The applicant requests amendment of their current permit to add authorization to take (enter hibernacula or maternity roost caves; capture with mist-nets and harp traps; wing-punch; band; and radio-tag) Virginia big-eared bat (Corynorhinus townsendii virginianus), gray bat (Myotis grisescens), and northern long-eared bat (Myotis septentrionalis) for research purposes and add authorization to take (collect hair samples) of the Carolina northern flying squirrel (Glaucomys sabrinus coloratus) for genetic analyses throughout these species' ranges.

Permit Application Number: TE 102292-10

Applicant: Jeremy Jackson, Jackson Group, Richmond, Kentucky

The applicant requests a permit to take (mist-net, harp trap, handle, band, and radio tag) Indiana bat (Myotis sodalis), northern long-eared bat (Myotis septentrionalis), gray bat (Myotis grisescens), Ozark big-eared bat (Corynorhinus townsendii ingens), and the Virginia big-eared bat (Corynorhinus townsendii virginianus) throughout the species' ranges for conducting presence/absence surveys, studies to document habitat use, and population monitoring.

Permit Application Number: TE 31057A-1

Applicant: North Carolina Wildlife Resources Commission

The applicant requests to amend their current permit to take (collect, handle, maintain in captivity, propagate, release, and translocate) individuals from 10 federally listed mussel species for the purpose of restoring and augmenting wild populations in the state of North Carolina.

Permit Application Number: TE 86220A-2

Applicant: Jaret Daniels, University of Florida, Museum of Natural History, Gainesville, Florida

The applicant requests to amend their current permit to take (capture, hold, propagate in captivity, collect body parts or tissues, attach markers and release) Schaus swallowtail butterfly (Heraclides aristodemus ponceanus) and Miami blue butterflies (Cyclargus thomasi bethunebakeri) for enhancement of propagation and survival of the species.

Permit Application Number: TE 021030-3

Applicant: Stanley Rudzinski, Mt. Juliet, Tennessee

The applicant requests a permit to take (capture, identify, release) Nashville crayfish (Orconectes shoupi) for the purpose of conducting presence/absence surveys in Tennessee.

Permit Application Number: TE 81587B-0

Applicant: Alexander Silvis, Virginia Tech, Blacksburg, VA

The applicant requests a permit to take (mist-net, harp trap, handle, wing-punch, band, and radio tag) Indiana bat (Myotis sodalis), northern long-eared bat (Myotis septentrionalis), gray bat (Myotis grisescens), Ozark big-eared bat (Corynorhinus townsendii ingens), and the Virginia big-eared bat (Corynorhinus townsendii virginianus) for migration, day-roost, and foraging ecology research in the eastern United States and central and southern Appalachians.

Permit Application Number: TE 121073

Applicant: Christopher Skelton, Little Rock, Arkansas

The applicant requests to amend their current permit to take (capture, identify, release) an additional eighteen species of federally listed fish, nineteen species of federally listed mussels, the Nashville crayfish (Orconectes shoupi), and the interrupted rocksnail (Leptoxis foremani) for the purpose of conducting presence/absence surveys in Tennessee, Alabama, Florida, Georgia, and Tennessee.

Dated: November 17, 2015.
Franklin J. Arnold III,
Acting Assistant Regional Director—Ecological Services, Southeast Region.

[FR Doc. 2015-30002 Filed 11-24-15; 8:45 am]

BILLING CODE 4310-55-P